DEPARTMENT OF TRANSPORTATION

Federal Aviation Administration

14 CFR Part 39

[Docket No. 2003-CE-33-AD; Amendment 39-13282; AD 2003-16-51]

RIN 2120-AA64

Airworthiness Directives; Schempp-Hirth Flugzeugbau GmbH Model Duo-Discus Gliders

AGENCY: Federal Aviation Administration, DOT.

ACTION: Final rule; correction.

SUMMARY: This document makes a correction to Airworthiness Directive (AD) 2003-16-51, which was published in the Federal Register on August 20, 2003 (68 FR 50055), and applies to certain Schempp-Hirth (SCHEMPP-HIRTH) Flugzeugbau GmbH Model Duo-Discus gliders. We inadvertently omitted certain regulatory text in 14 CFR part 39. This action corrects the regulatory text.

EFFECTIVE DATE: The effective date of this AD remains August 20, 2003.

FOR FURTHER INFORMATION CONTACT: Gregory Davidson, Aerospace Engineer, FAA, Small Airplane Directorate, Room 301, 901 Locust, Kansas City, Missouri 64106; telephone: (816) 329-4130; facsimile: (816) 329-4090.

SUPPLEMENTARY INFORMATION:

Discussion

On August 12, 2003, FAA issued AD 2003-16-51, Amendment 39-13282 (68 FR 50055, August 20, 2003), which applies to certain SCHEMPP-HIRTH Model Duo-Discus gliders. This AD requires you to accomplish a one-time inspection of the bonding of the spar cap and spar web, and repair any defective bonding of the spar cap and spar web.

Need for the Correction

The FAA inadvertently omitted Amendment 39-13282 in the regulatory portion of the AD (in 14 CFR part 39).

The information is included in the preamble of the AD. The amendment number is needed for appropriate logbook entry for the affected airplane owners/operators if the preamble of the AD is not available.

Correction of Publication

Accordingly, the publication of August 20, 2003 (68 FR 50055), of Amendment 39-13282; AD 2003-16-51, is corrected as follows:

§ 39.13 [Corrected]

On page 50056, in § 39.13 [Amended], in the third column, add the words “Amendment 39-13282; “ after “GmbH:”

Action is taken herein to correct this reference in AD 2003-16-51 and to add this AD correction to § 39.13 of the Federal Aviation Regulations (14 CFR 39.13).

The effective date remains August 20, 2003.

Issued in Kansas City, Missouri, on August 28, 2003.
Michael Gallagher,
Manager, Small Airplane Directorate, Aircraft Certification Service.

[FR Doc. 03-22494 Filed 9-3-03; 8:45 am]

BILLING CODE 4910-13-P